ENVIRONMENTAL PROTECTION AGENCY

[EPA-HQ-OPPT-2003-0004; FRL-11013-01-OCSPP]

Access to Confidential Business Information by Agile Decision Sciences, LLC

AGENCY: Environmental Protection Agency (EPA).

ACTION: Notice.

SUMMARY: EPA has authorized its contractor Agile Decision Sciences, LLC of Huntsville, AL to access information which has been submitted to EPA under all Sections of the Toxic Substances Control Act (TSCA). Some of the information may be claimed or determined to be Confidential Business Information (CBI).

DATES: Access to the confidential data will occur no sooner than June 16, 2023.

FOR FURTHER INFORMATION CONTACT: For technical information contact: Colby Lintner/Adam Schwoerer, Program Management and Operations Division (7407M), Office of Pollution Prevention and Toxics, Environmental Protection Agency, 1200 Pennsylvania Ave. NW, Washington, DC 20460-0001; telephone number: (202) 564-8182; email address: lintner.colby@epa.gov or (202) 564-4767; schwoerer.adam@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. This action may, however, be of interest to all who manufacture, process, or distribute industrial chemicals. Because other entities may also be interested, the Agency has not attempted to describe all the specific entities that may be affected by this action.

B. How can I get copies of this document and other related information?

The docket for this notice, identified by docket identification (ID) number EPA-HQ-OPPT-2003-0004, is available at https://www.regulations.gov. The data being transferred is not in the docket. For the latest status information on EPA dockets, visit https://www.epa.gov/dockets.

II. What action is the Agency taking?

Under contract number 68HERD23D0003, task order number 68HERD23F0044, contractor Agile Decision Sciences, LLC located at 350 Voyager Way Suite 100B, Huntsville, AL 35806-3200 will assist the Office of Pollution Prevention and Toxics (OPPT) by managing the Non-Confidential Business Information Center (NCIC). They will also provide current and historical reports on all TSCA non-CBI submissions received in compliance with TSCA; organize, distribute and prepare records for permanent storage; and handle all docket-related records for OPPT, in accordance with the TSCA Security Manual.

In accordance with 40 CFR 2.306(j), EPA has determined that under EPA contract number 68HERD23D0003, task order number 68HERD23F0044, Agile Decision Services, LLC will require access to CBI submitted under all Sections of TSCA to perform successfully the duties specified under the contract. Agile Decision Services, LLC personnel will be given access to information claimed or determined to be CBI information submitted to EPA under all sections of TSCA.

EPA is issuing this notice to inform all submitters of information under all sections of TSCA that EPA will provide Agile Decision Sciences, LLC access to these CBI materials on a need-to-know basis only. All access to TSCA CBI under this contract will take place at EPA Headquarters in accordance with EPA's TSCA CBI Protection Manual and the Rules of Behavior for Virtual Desktop Access to OPPT Materials, including TSCA CBI.

Access to TSCA data, including CBI, will continue until March 31, 2026. If the contract is extended, this access will also continue for the duration of the extended contract without further notice.

Agile Decision Sciences, LLC personnel will be required to sign nondisclosure agreements and will be briefed on specific security procedures for TSCA CBI.

Authority: 15 U.S.C. 2601 et seq.

Dated: June 5, 2023.
Pamela Myrick,
Director, Project Management and Operations Division, Office of Pollution Prevention and Toxics.

[FR Doc. 2023-12319 Filed 6-8-23; 8:45 am]

BILLING CODE 6560-50-P